DEPARTMENT OF COMMERCE

National Oceanic and Atmospheric Administration

50 CFR Part 648

[Docket No. 0910051338-0151-02]

RIN 0648-XA652

Fisheries of the Northeastern United States; Northeast Multispecies Fishery; Trip Limit Decrease for the Common Pool Fishery

AGENCY: National Marine Fisheries Service (NMFS), National Oceanic and Atmospheric Administration (NOAA), Commerce.

ACTION: Temporary rule; inseason adjustment of trip limit.

SUMMARY: NMFS decreases the trip limits for Gulf of Maine (GOM) and George's Bank (GB) cod for Northeast (NE) multispecies common pool vessels for the 2011 fishing year (FY), through April 30, 2012. This action is authorized under the authority of the Magnuson-Stevens Fishery Conservation and Management Act (Magnuson-Stevens Act), and by the regulations implementing Amendment 16 and Framework Adjustment (FW) 44 to the NE Multispecies Fishery Management Plan (FMP). The action is intended to reduce the harvest of GOM and GB cod to prevent the common pool sub-annual catch limit (sub-ACL) from being exceeded.

DATES: Effective August 30, 2011, through April 30, 2012.

FOR FURTHER INFORMATION CONTACT: Brett Alger, Fisheries Management Specialist, (978) 675-2153, fax (978) 281-9135.

SUPPLEMENTARY INFORMATION: Regulations governing the NE multispecies fishery are found at 50 CFR part 648, subpart F. The regulations at § 648.86(o) authorize the NMFS NE Regional Administrator (RA) to adjust the trip limits for common pool vessels in order to optimize the harvest of NE regulated multispecies by preventing the overharvest or underharvest of stocks subject to sub-ACLs. For FY 2011, the common pool sub-ACL for GOM cod is 229,281 lb (104 mt). The current trip limit for GOM cod is 500 lb (226.8 kg) per day-at-sea (DAS), up to 2,000 lb (907.2 kg) per trip (76 FR 23042; April 25, 2011). The common pool sub-ACL for GB cod is 205,030 lb (93 mt). The current trip limit for GB cod is 3,000 lb (1,360.8 kg) per day-at-sea (DAS), up to 30,000 lb (13,607.8 kg) per trip (76 FR 30035; May 24, 2011).

As of August 11, 2011, based on the best available catch information, including Vessel Monitoring System (VMS) reports, dealer reports, and vessel trip reports, approximately 57 percent of the GOM cod, and 59 percent of the GB cod of the common pool sub-ACLs have been harvested.

This action decreases the GOM cod trip limit to 350 lb (158.8 kg) per DAS, up to 1,000 lb (453.6 kg) per trip and decreases the GB cod trip limit to 300 lb (136.1 kg) per DAS, up to 600 lb (272.2 kg) per trip, for common pool vessels, effective August 30, 2011, through April 30, 2012, to reduce harvest of these stocks and prevent the overharvest of their respective sub-ACLs This action does not change the current GB cod trip limit for vessels with a Handgear A permit (300 lb (136.1 kg) per trip), Handgear B permit (75 lb (34.0 kg) per trip), or Small Vessel Category permit (300 lb (136.1 kg) of cod, haddock, and yellowtail flounder combined). Catch will continue to be monitored through dealer-reported landings, VMS catch reports, and other available information, and if necessary, additional adjustments to common pool management measures may be made.

Classification

This action is authorized by 50 CFR part 648 and is exempt from review under Executive Order 12866.

The Assistant Administrator for Fisheries, NOAA (AA) finds good cause pursuant to 5 U.S.C. 553(b)(3)(B) to waive prior notice and the opportunity for public comment for this inseason adjustment because notice and comment would be impracticable and contrary to the public interest. The regulations at § 648.86(o) grant the RA authority to adjust the NE multispecies trip limits for common pool vessels in order to prevent the overharvest or underharvest of the pertinent common pool sub-ACLs. This action decreases the trip limits for GOM and GB cod to reduce their harvest in order to prevent the common pool sub-ACLs from being exceeded. The time necessary to provide for prior notice and comment would prevent NMFS from implementing the necessary trip limit adjustments in a timely manner. A resulting delay in the reduction of trip limits would allow for continued higher catch rates and potentially allow the pertinent common pool sub-ACLs to be exceeded. This is contrary to the agency's obligation under the Magnuson-Stevens Act to prevent overfishing. Further, if the sub-ACLs are exceeded, this would trigger the implementation of accountability measures that will have negative economic impacts on the participants in the common pool. Giving effect to this rule as soon as possible will prevent these unnecessary impacts.

Further, the AA finds good cause pursuant to 5 U.S.C. 553(d)(3) to waive the 30-day delay in effectiveness for this action. This action decreases the trip limits for GOM and GB cod to reduce their harvest in order to prevent the common pool sub-ACLs from being exceeded. A delay in the reduction of trip limits would allow for continued higher catch rates and potentially allow the pertinent common pool sub-ACLs to be exceeded. This is contrary to the agency's obligation under the Magnuson-Stevens Act to prevent overfishing. Further, if the sub-ACLs are exceeded, this would trigger the implementation of accountability measures that will have negative economic impacts on the participants in the common pool. Giving effect to this rule as soon as possible will prevent these unnecessary impacts

Authority: 16 U.S.C. 1801 et seq.

Dated: August 25, 2011.
James P. Burgess,
Acting Director, Office of Sustainable Fisheries, National Marine Fisheries Service.

[FR Doc. 2011-22141 Filed 8-29-11; 8:45 am]

BILLING CODE 3510-22-P